DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent No. 7,072,560: Twist free method of optical fiber stowage and payout, Navy Case No. 84610//U.S. Patent No. 7,166,664: Limonene, pinene, or other terpenes and their alcohols, aldehydes and ketones, as polymer solvents for conducting polymers in aqueous and non-aqueous coating formulations and their uses, Navy Case No. 96100.

ADDRESSES: Requests for copies of the inventions cited should be directed to Naval Air Warfare Center Weapons Division, Code 4L4400D, 1900 N. Knox Road Stop 6312, China Lake, CA 93555-6106 and must include the Navy Case number.

FOR FURTHER INFORMATION CONTACT: Michael D. Seltzer, PhD., Head, Technology Transfer Office, Naval Air Warfare Center Weapons Division, Code 4L4400D, 1900 N. Knox Road Stop 6312, China Lake, CA 93555-6106, telephone 760-939-1074, Fax 760-939-1210, E-mail: michael.seltzer@navy.mil.

Authority: 35 U.S.C. 207, 37 CFR 404.7. Dated July 2, 2006.

Dated: July 9, 2007.
L.R. Almand,
Office of the Judge Advocate General,U.S. Navy,Administrative Law Division,Federal Register Liaison Officer.

[FR Doc. E7-13645 Filed 7-12-07; 8:45 am]

BILLING CODE 3810-FF-P